DEPARTMENT OF TRANSPORTATION

Maritime Administration

[Docket No. MARAD-2012-0098]

Notice of Availability of a Finding of No Significant Impact for the Port of Guam Modernization Program

AGENCY: U.S. Department of Transportation, Maritime Administration.

ACTION: Notice of Availability of the Finding of No Significant Impact for the Port of Guam Modernization Program.

SUMMARY: The purpose of this Notice is to make available to the public the Finding of No Significant Impact (FONSI) derived from the Environmental Assessment (EA) regarding the Port of Guam Modernization Program (Program).

The objective of this Program is to improve or replace existing port facilities, reconfigure operations, expand storage capacity, and upgrade existing infrastructure. Specifically, the proposed action would construct a new break-bulk terminal area in the western portion of the terminal yard. A non-port operations area would be developed east of the proposed new break-bulk terminal to improve efficiency and security. New entrance and exit gates would be constructed to increase processing efficiency and reduce truck queuing times. Some existing buildings would be demolished, expanded, and/or refurbished and new buildings would be constructed. Deteriorating or failing utilities would be upgraded or replaced. Oil/water separators would be installed in storm water outfalls into the harbor. New safety and security improvements would be constructed.

FOR FURTHER INFORMATION CONTACT: Daniel Yuska, 1200 New Jersey Ave. SE., Washington, DC 20590; phone: (202) 366-0714; or email: Daniel.yuska@dot.gov. Persons who use a telecommunications device for the deaf (TDD) may call the Federal Information Relay Service (FIRS) at 1-800-877-8339 to contact the above individuals during business hours. The FIRS is available twenty-four hours a day, seven days a week, to leave a message or question with the above individuals. You will receive a reply during normal business hours.

By Order of the Maritime Administrator.
Dated: November 2, 2012.
Julie P. Agarwal,
Secretary, Maritime Administration.

[FR Doc. 2012-27258 Filed 11-7-12; 8:45 am]

BILLING CODE 4910-81-P